NATIONAL AERONAUTICS AND SPACE ADMINISTRATION

[Notice (00-004)]

NASA Advisory Council, Aero-Space Technology Advisory Committee, Rotorcraft Subcommittee; Meeting

AGENCY: National Aeronautics and Space Administration.

ACTION: Notice of meeting.

SUMMARY: In accordance with the Federal Advisory Committee Act, Pub. L. 92-463, as amended, the National Aeronautics and Space Administration announces a NASA Advisory Council, Aero-Space Technology Advisory Committee, Rotorcraft Subcommittee meeting.

DATES: Tuesday, March 7, 2000, 8:00 a.m. to 5:00 p.m.; Wednesday, March 8, 2000, 8:00 a.m. to 2:00 p.m.

ADDRESSES: National Aeronautics and Space Administration, Langley Research Center, Building 1219, Room 225, Hampton, VA 23681-0001.

FOR FURTHER INFORMATION CONTACT: Ms. Sue Zabor, National Aeronautics and Space Administration, Ames Research Center, Moffett Field, CA 94035, 650/604-2890.

SUPPLEMENTARY INFORMATION: The meeting will be open to the public up to the seating capacity of the room. Agenda topics for the meeting are as follows:

—Rotorcraft Base Program

—Rotorcraft Safety Program

—Rotorcraft Subcommittee Recommendations

It is imperative that the meeting be held on these dates to accommodate the scheduling priorities of the key participants. Visitors will be requested to sign a visitors register.

Dated: January 12, 2000.
Matthew M. Crouch,
Advisory Committee Management Officer, National Aeronautics and Space Administration.

[FR Doc. 00-1248 Filed 1-18-00; 8:45 am]

BILLING CODE 7510-01-P